DEPARTMENT OF AGRICULTURE

Rural Utilities Service

Highwood Generating Station Environmental Impact Statement (EIS)

AGENCY: Rural Utilities Service, USDA.

ACTION: Notice of availability of record of decision (ROD).

SUMMARY: In accordance with the Rural Electrification Act of 1936, the National Environmental Policy Act of 1969 (NEPA), and the Montana Environmental Policy Act, the Rural Utilities Service (RUS), an Agency delivering the United States Department of Agriculture's (USDA) Rural Development Utilities Programs, hereinafter referred to as Rural Development and/or Agency, and the Montana Department of Environmental Quality (DEQ) announce the availability of the ROD for the EIS for the Highwood Generating Station (HGS), proposed to be located near Great Falls, Montana. The Administrator, Utilities Programs, USDA Rural Development, and the Director, DEQ, have signed the ROD, which is effective upon signing.

ADDRESSES: To obtain copies of the HGS ROD, or for further information, contact: Richard Fristik, Senior Environmental Protection Specialist, U.S. Department of Agriculture, Rural Development Utilities Programs, 1400 Independence Ave., SW, Stop 1571, Washington, DC 20250, phone (202) 720-5093 (richard.fristik@wdc.usda.gov); or, Kathleen Johnson, Environmental Impact Specialist, Montana Department of Environmental Quality, P. O. Box 200901, Helena MT 59620-0901, phone 406-444-1760 (katjohnson@mt.us). A copy of the ROD can be viewed online at: http://www.usda.gov/rus/water/ees/eis.htm#Southern%20Montana%20Electric%20Cooperative,%20Inc and http://www.deq.mt.gov/eis.asp.

The document is in a portable document format (pdf); in order to review or print the document, users need to obtain a free copy of Acrobat Reader. The Acrobat Reader can be obtained from http://www.adobe.com/prodindex/acrobat/readstep.html.

SUPPLEMENTARY INFORMATION: The Southern Montana Electric Generation and Transmission Cooperative, Incorporated (SME) proposes to build and operate a 250 (net) megawatt (MW), Circulating Fluidized Bed (CFB), coal-fired electric power plant—called the Highwood Generating Station (HGS)—and 6 MW of wind generation at a site near Great Falls, Montana. SME will lose its principal supply of power from the Bonneville Power Administration beginning in part in 2008 and in full in 2011; thus, the purpose and need of the proposal is for SME to replace that power supply with another source of reliable, long-term, affordable electric energy and related services in order to fulfill its obligations to its member rural electric cooperatives. In order to meet the projected electric power deficit, SME formally applied to Rural Development in 2004 for a loan guarantee for the construction of an electric generating source, the proposed HGS, and related transmission facilities. In September 2005, SME submitted a draft air quality permit application to DEQ and formally applied for an air quality permit in November 2005. The application was reviewed and a draft preliminary determination (PD) was released for public review and comment on March 30, 2006. Comments on the draft PD resulted in a supplemental PD that was included in the Draft and Final EIS. A solid waste management license application was submitted to the DEQ on March 20, 2006. In accordance with the NEPA and the Montana Environmental Policy Act and applicable agency regulations, the DEQ and Rural Development have prepared an EIS to assess the potential environmental impacts associated with the proposed HGS. The decision being documented in this ROD is that Rural Development agrees to participate, subject to loan approval, in the funding of the HGS at the Salem site. The DEQ's decisions include the approval of SME's air quality permit application and solid waste management license. More details regarding each agency's regulatory authority, rationale for the decisions, and compliance with applicable regulations are included in the ROD. Though Rural Development and DEQ were co-leads in preparation of the EIS, and the ROD is signed by both agencies, it is not necessary for DEQ to sign this notice.

Lists of various alternatives were evaluated for generation source/technology, facility location, water supply and wastewater, and appurtenant facilities. Alternatives eliminated from detailed study were, by category: Generation Source/Technology—power purchase agreements, wind energy, solar energy, hydropower, geothermal energy, biomass, biogas, municipal solid waste, natural gas combined cycle, microturbines, pulverized coal, integrated gasification combined cycle, oil, nuclear power, and two combinations of renewable and non-renewable sources. Facility Location—outstate, the Decker, Hysham, and Nelson Creek sites; and in the Great Falls area, the Sun River, Manchester, Malmstrom, and Section 36 sites. Water Supply and Wastewater at the preferred site—importing bottled water, drinking water wells drilled on-site, additional (Missouri) river diversion, directly discharging wastewater into the Missouri River, and disposing of sanitary wastewater in a septic system. Appurtenant Facilities at the preferred site—two alternate railroad spur alignments, and hauling ash to the High Plains landfill.

Three alternatives were evaluated in detail in the Draft and Final EIS: (1) The No Action Alternative; (2) The Proposed Action, a 250-MW CFB, coal-fired power plant—the HGS—and four 1.5-MW wind turbines at the Salem site; and (3) A 250-MW CFB plant and no wind turbines at an alternative site north of Great Falls, called the Industrial Park site. The agency's preferred alternative is (2), the Proposed Action. The No Action Alternative does not meet the proposal's purpose and need. It would distribute and perhaps disperse environmental impacts from electricity generation to meet SME's customer's needs to other locations in the American and Canadian West. The No Action Alternative would expose SME, its members and customers to higher prices by purchasing power on the volatile open electric market. The Industrial Park alternative would meet the proposal's purpose and need and provide similar benefits as the Proposed Action, but it has disadvantages compared to the Salem site. Disadvantages of the site include increases in local rail and truck traffic due to coal delivery through the City of Great Falls and hauling fly ash to the nearby landfill, presenting greater potential for increased traffic delays and/or accidents. Its proximity to other industrial and residential sources presents potential challenges in air quality permitting as well as noise. The disposal of fly ash at the landfill will shorten the landfill's life requiring expansion of that facility or development of another facility to meet the solid waste needs for Cascade County. The Industrial Park site also is not large enough to accommodate ancillary wind power development.

Fourteen resources or areas of concern that could potentially be affected emerged from the scoping process and agency discussions, or are required to be evaluated by law or regulation. These issues, and the means by which they were evaluated, are summarized on Pages 1-25 to 1-29 in the Final EIS. The following table summarizes the impact conclusions by resource and site.

Resource/issue | Salem site | Industrial Park Site
Soils and Topography | Moderate, short-term impacts due to construction; permanent increase in impermeable surface area; minor, long-term impacts due to waste monofill | Moderate, short-term impacts due to construction; permanent increase in impermeable surface area.
Water Resources | Negligible construction impacts to receiving water quality; minor impacts on Missouri River flows from water withdrawals | Negligible construction impacts to receiving water quality; minor impacts on Missouri River flows from water withdrawals.
Air Quality | Short-term construction impacts; long-term minor to moderate impacts due to release of criteria pollutants, Hazardous Air Pollutants (HAP), Green House Gases (GHG), visual plume and haze | Short-term construction impacts; long-term minor to moderate impacts due to release of criteria pollutants, HAPs, GHGs, visual plume and haze. Potential adverse cumulative and local impacts due to proximity to other industries, City of Great Falls, and local residences.
Biological Resources | Minor, short-term construction impacts to terrestrial and aquatic biota, vegetation; minor long-term impact from rail/traffic collisions | Minor, short-term construction impacts to terrestrial and aquatic biota, vegetation; minor long-term impact from rail/traffic collisions.
Noise | Minor to moderate, short-term construction impacts; minor long-term impact from train traffic, plant operation; significant impacts to National Historic Landmark (NHL) | Minor to moderate, short-term construction impacts; minor long-term impact from train traffic, plant operation; greater number of residential receptors.
Recreation | Negligible to minor impacts | Negligible to minor impacts.
Cultural Resources/Historic Properties | Adverse effect to NHL; no impact to archeological resources | No impact to historic properties or archeological resources.
Visual Resources | Significant impact/adverse effect to NHL | Negligible to minor impact to NHL; moderate impacts in localized area.
Transportation | Short-term, moderate construction impacts | Short-term, moderate construction impacts; increased accident risk and traffic congestion due to rail crossings in Great Falls and truck transportation of ash.
Farmland and Land Use | Permanent loss of farmland; moderate, long-term impact on land use/property values | Minor, long-term impact on land use/property values.
Waste Management | Minor, medium-term construction impacts; moderate, long-term operation impacts | Minor, medium-term construction impacts; minor to moderate operation impacts; possible capacity issues with use of Great Falls landfill.
Human Health and Safety | Minor construction-related impacts; minor, long-term operation impacts | Minor construction-related impacts; increased risk for traffic-related accidents.
Socioeconomics | Minor to moderately beneficial impacts | Minor to moderately beneficial impacts.
Environmental Justice/Protection of Children | No impact | Minor to moderate, long-term impact on low-income residents.

Five-hundred forty-three (543) letters, postcards, and e-mails were received in response to the Final EIS. Comments received were grouped into 55 categories or themes, and resulted in just over 2300 comments spread over these categories. Approximately 20 percent of the comments simply expressed either opposition or support of the proposal, though the overwhelming majority of these were in opposition. Of the remaining comments, almost half dealt with the following issues or concerns: greenhouse gas emissions/global warming/carbon capture and sequestration; renewable sources/conservation; air pollution in general; mercury/toxic emissions; outdated generation technology/dirty fuel; EIS inadequate; adverse effect to Great Falls Portage NHL; and, waste of scarce water resources. A complete summary of the comments is attached to the ROD. Though comments were not responded to individually, six substantive issues were addressed briefly in the ROD: Rural Development authority to make a loan guarantee for the proposal; financial analysis of the proposal; future carbon regulation; carbon capture and sequestration; renewable energy sources and conservation; and, water use, quality and quantity.

Based on an evaluation of the information and impact analyses presented in the EIS including the evaluation of all alternatives and in consideration of Agency environmental policies and procedures (7 CFR part 1794), Rural Development found that the evaluation of reasonable alternatives is consistent with the NEPA. The Agency selects the Salem site as its preferred alternative. This concludes the Agency's compliance with NEPA and the Agency's environmental policies and procedures. A review and analysis of the proposal's justification, associated engineering studies, and preliminary financial information have been reviewed and the Agency concurs in the proposal's purpose and need. The proposal would have an adverse effect on the Great Falls Portage NHL. Prior to the approval of the expenditure of Federal funds, the National Historic Preservation Act (NHPA), Section 106 process must conclude in accordance with 36 CFR part 800. Ongoing discussions are being conducted with all consulting parties concerning a resolution of adverse effects with the goal of concluding the Section 106 process with the execution of a Memorandum of Agreement (MOA) with the required parties. Once executed, the MOA will be integrated as a condition of the approval of the expenditure of Federal funds. Approval is contingent on SME obtaining and complying with all applicable local, State and Federal permits, implementing in good faith all mitigation measures and recommendations in the Final EIS and Biological Assessment, and continuing to participate in good faith as a consulting party in the NHPA Section 106 process and implementing all measures agreed to by the signatories to the MOA addressing the adverse effect to the Great Falls Portage NHL. This decision is in compliance with applicable statutory, regulatory and policy mandates, including the NEPA, the Endangered Species Act (ESA), Federal Aviation Administration (FAA) requirements, and the NHPA.

Dated: May 16, 2007.
James M. Andrew,
Administrator, Rural Utilities Service.

[FR Doc. E7-9817 Filed 5-21-07; 8:45 am]

BILLING CODE 3410-15-P